DEPARTMENT OF TRANSPORTATION

Federal Aviation Administration

14 CFR Part 39

[Docket No. FAA-2019-0193; Product Identifier 2018-NM-159-AD]

RIN 2120-AA64

Airworthiness Directives; Airbus SAS Airplanes

AGENCY: Federal Aviation Administration (FAA), DOT.

ACTION: Notice of proposed rulemaking (NPRM).

SUMMARY: We propose to supersede Airworthiness Directive (AD) 2018-22-13, which applies to certain Airbus SAS Model A350-941 and -1041 airplanes. AD 2018-22-13 requires revising the airplane flight manual (AFM) to provide the flightcrew with updated procedures related to inboard aileron fault operations. Since we issued AD 2018-22-13, we have determined that additional actions are necessary to address the unsafe condition and that additional airplanes are subject to the unsafe condition. This proposed AD would also require modifying the electronic centralized aircraft monitoring (ECAM) procedures by installing an Airbus Temporary Quick Change (ATQC) and activating an ECAM temporary change (ETC). We are proposing this AD to address the unsafe condition on these products.

DATES: We must receive comments on this proposed AD by May 23, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2019-0193; or in person at Docket Operations between 9 a.m. and 5 p.m., Monday through Friday, except Federal holidays. The AD docket contains this NPRM, the regulatory evaluation, any comments received, and other information. The street address for Docket Operations (phone 800-647-5527) is in the ADDRESSES section. Comments will be available in the AD docket shortly after receipt.

FOR FURTHER INFORMATION CONTACT: Kathleen Arrigotti, Aerospace Engineer, International Section, Transport Standards Branch, FAA, 2200 South 216th St., Des Moines, WA 98198; telephone and fax 206-231-3218.

SUPPLEMENTARY INFORMATION:

Comments Invited

We invite you to send any written relevant data, views, or arguments about this proposal. Send your comments to an address listed under the ADDRESSES section. Include “Docket No. FAA-2019-0193; Product Identifier 2018-NM-159-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2018-22-13, Amendment 39-19486 (83 FR 55617, November 7, 2018) (“AD 2018-22-13”), for certain Airbus SAS Model A350-941 and -1041 airplanes. AD 2018-22-13 requires revising the AFM to provide the flightcrew with updated procedures related to inboard aileron fault operations. AD 2018-22-13 was prompted by a technical issue detected on the inboard aileron electro-hydrostatic actuators that caused potential erroneous monitoring of those actuators. We issued AD 2018-22-13 to address possible in-flight loss of inboard aileron control, consequent increased fuel consumption due to the resulting drag, and reduced control or performance of the airplane if one engine is also inoperative.

Actions Since AD 2018-22-13 Was Issued

When we issued AD 2018-22-13, we stated that it was an interim action and we were considering additional rulemaking to require installing two different ATQCs to modify the ECAM procedures. We have determined that requiring those additional actions is necessary to address the identified unsafe condition. In addition, the European Aviation Safety Agency (EASA), which is the Technical Agent for the Member States of the European Union, revised EASA AD 2018-0213, dated October 1, 2018 (which corresponds to AD 2018-22-13). The EASA AD revision added airplanes to the applicability. Although none of those additional airplanes are currently on the U.S. registry, they might be added in the future, and we have included them in the applicability of this proposed AD.

EASA has issued EASA AD 2018-0213R1, dated November 9, 2018 (referred to after this as the Mandatory Continuing Airworthiness Information, or “the MCAI”), to correct an unsafe condition for certain Airbus SAS Model A350-941 and -1041 airplanes. The MCAI states:

A technical issue was detected on the inboard aileron electro-hydrostatic actuators, causing potential erroneous monitoring of those actuators. Consequently, in-flight loss of inboard aileron control may occur, which, due to the resulting drag, would lead to increased fuel consumption.

This condition, if not corrected, and if combined with one engine inoperative, could result in reduced control or performance of the aeroplane.

To address this potential unsafe condition, Airbus issued the AFM [airplane flight manual] TR [temporary revision] and Flight Operations Transmission (FOT) 999.0062/18, informing operators that Airbus provides two different Airbus Temporary Quick Changes (ATQC) to the Electronic Centralized Aircraft Monitoring (ECAM), depending on the installed FWS [flight warning system] standard, either STD [standard] S4/2.0 or STD S5/2.2, as applicable, and issued the applicable SB [service bulletin] accordingly, providing modification instructions.

For the reasons described above, this [EASA] AD requires amendment of the applicable AFM and installation of ATQC V4, followed by ECAM Temporary Change (ETC) activation, to update the procedures related to inboard aileron fault operations. This AD is considered to be an interim action and further AD action may follow.

This [EASA] AD is revised to amend the Applicability and correct some additional (minor) errors.

You may examine the MCAI in the AD docket on the internet at http://www.regulations.gov by searching for and locating Docket No. FAA-2019-0193.

Related Service Information Under 1 CFR Part 51

Airbus issued Airbus A350 Temporary Revision (TR) 113, Issue 1.0, dated August 17, 2018, which provides updated procedures related to inboard aileron fault operations.

Airbus also issued the following service information:

Service Bulletin A350-31-P028, dated September 17, 2018, describes procedures for installing ATQC standard V4 for FWS standard S4/2.0.

Service Bulletin A350-31-P029, dated September 17, 2018, describes procedures for installing ATQC standard V4 for FWS standard S5/2.2.

Service Bulletin A350-31-P030, dated September 17, 2018, describes procedures for activating ECAM temporary change code No. 27AF.

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would retain all requirements of AD 2018-22-13 and require accomplishing the actions specified in the service information described previously.

Costs of Compliance

We estimate that this proposed AD affects 11 airplanes of U.S. registry. We estimate the following costs to comply with this proposed AD:

Estimated Costs for Required Actions
Action | Labor cost | Parts cost | Cost per product | Cost on U.S. operators
Retained actions from AD 2018-22-13 | 1 work-hour × $85 per hour = $85 | $0 | $85 | $935
New proposed actions | 4 work-hours × $85 per hour = $340 | 0 | 340 | 3,740

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-22-13, Amendment 39-19486 (83 FR 55617, November 7, 2018), and adding the following new AD:

Airbus SAS: Docket No. FAA-2019-0193; Product Identifier 2018-NM-159-AD.

(a) Comments Due Date

We must receive comments by May 23, 2019.

(b) Affected ADs

This AD replaces AD 2018-22-13, Amendment 39-19486 (83 FR 55617, November 7, 2018) (“AD 2018-22-13”).

(c) Applicability

This AD applies to Airbus SAS Model A350-941 and -1041 airplanes, certificated in any category, except those on which Airbus modifications 113758 and 113759 have been embodied in production.

(d) Subject

Air Transport Association (ATA) of America Code 27, Flight controls.

(e) Reason

This AD was prompted by a technical issue detected on the inboard aileron electro-hydrostatic actuators that caused potential erroneous monitoring of those actuators. We are issuing this AD to address possible in-flight loss of inboard aileron control, consequent increased fuel consumption due to the resulting drag, and reduced control or performance of the airplane if one engine is also inoperative.

(f) Compliance

Comply with this AD within the compliance times specified, unless already done.

(g) Retained Revision of Airplane Flight Manual (AFM), With Revised Compliance Language

This paragraph restates the requirements of paragraph (g) of AD 2018-22-13, with revised compliance language. At the applicable time specified in paragraph (g)(1) or (g)(2) of this AD, revise the Abnormal Procedures section of the AFM to include the information in Airbus A350 Temporary Revision (TR) 113, Issue 1.0, dated August 17, 2018, which introduces updated procedures related to inboard aileron fault operations. This may be done by inserting a copy of TR 113, Issue 1.0, dated August 17, 2018, into the AFM. When TR 113, Issue 1.0, dated August 17, 2018, has been included in general revisions of the AFM, the general revisions may be inserted into the AFM, provided the relevant information in the general revisions is identical to that in TR 113, Issue 1.0, dated August 17, 2018, and the TR may be removed. Operate the airplane according to the procedures in TR 113, Issue 1.0, dated August 17, 2018. In case any discrepancy is identified between procedures displayed on the electronic centralized aircraft monitoring (ECAM) and procedures stated in the applicable AFM, the AFM procedures prevail.

(1) For airplanes modified by Airbus modifications 113758 and 113760: Within 30 days after the effective date of this AD

(2) For airplanes not identified in paragraph (g)(1) of this AD: Within 30 days after November 23, 2018 (the effective date of AD 2018-22-13).

(h) New Requirement of This AD: Modification

Within 6 months after the effective date of this AD, do the actions specified in paragraphs (h)(1) and (h)(2) of this AD.

(1) Install the Airbus Temporary Quick Change (ATQC) as specified in paragraph (h)(1)(i) or (h)(1)(ii) of this AD, as applicable.

(i) For airplanes with flight warning system (FWS) standard S4/2.0: Install ATQC standard V4 for FWS standard S4/2.0, in accordance with the Accomplishment Instructions of Airbus Service Bulletin A350-31-P028, dated September 17, 2018.

(ii) For airplanes with FWS standard S5/2.2: Install ATQC standard V4 for FWS standard S5/2.2, in accordance with the Accomplishment Instructions of Airbus Service Bulletin A350-31-P029, dated September 17, 2018.

(2) Activate ECAM temporary change code No. 27AF, in accordance with the Accomplishment Instructions of Airbus Service Bulletin A350-31-P030, dated September 17, 2018.

(i) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to 9-ANM-116-AMOC-REQUESTS@faa.gov.

(i) Before using any approved AMOC, notify your appropriate principal inspector, or lacking a principal inspector, the manager of the local flight standards district office/certificate holding district office.

(ii) AMOCs approved previously for AD 2018-22-13 are approved as AMOCs for the corresponding provisions of this AD.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) Refer to Mandatory Continuing Airworthiness Information (MCAI) EASA AD 2018-0213R1, dated November 9, 2018, for related information. This MCAI may be found in the AD docket on the internet at http://www.regulations.gov by searching for and locating Docket No. FAA-2019-0193.

(2) For more information about this AD, contact Kathleen Arrigotti, Aerospace Engineer, International Section, Transport Standards Branch, FAA, 2200 South 216th St., Des Moines, WA 98198; telephone and fax 206-231-3218.

(3) For service information identified in this AD, contact Airbus SAS, Airworthiness Office—EAL, Rond-Point Emile Dewoitine No: 2, 31700 Blagnac Cedex, France; telephone +33 5 61 93 36 96; fax +33 5 61 93 45 80; email continued-airworthiness.a350@airbus.com; internet http://www.airbus.com. You may view this service information at the FAA, Transport Standards Branch, 2200 South 216th St., Des Moines, WA. For information on the availability of this material at the FAA, call 206-231-3195.

Issued in Des Moines, Washington, on April 1, 2019.
Michael Kaszycki,
Acting Director, System Oversight Division, Aircraft Certification Service.

[FR Doc. 2019-06793 Filed 4-5-19; 8:45 am]

BILLING CODE 4910-13-P